DEPARTMENT OF STATE

[Public Notice: 9299]

In the Matter of the Designation of Jaysh Rijal al-Tariq al-Naqshabandi, Also Known as Army of the Men of the Naqshbandi Order, Also Known as Armed Men of the Naqshabandi Order, Also Known as Naqshbandi Army, Also Known as Naqshabandi Army, Also Known as Men of the Army of al-Naqshbandia Way, Also Known as Jaysh Rajal al-Tariqah al-Naqshbandia, Also Known as JRTN, Also Known as JRN, Also Known as AMNO as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to as Jaysh Rijal al-Tariq al-Naqshabandi also known as Army of the Men of the Naqshbandi Order also known as Armed Men of the Naqshabandi Order also known as Naqshbandi Army also known as Naqshabandi Army also known as Men of the Army of al-Naqshbandia Way also known as Jaysh Rajal al-Tariqah al-Naqshbandia also known as JRTN also known as JRN also known as AMNO.

Therefore, I hereby designate the aforementioned organization and its aliases as a foreign terrorist organization pursuant to section 219 of the INA.

This determination shall be published in the Federal Register.

Dated: September 21, 2015.
John F. Kerry,
Secretary of State.

[FR Doc. 2015-24878 Filed 9-29-15; 8:45 am]

BILLING CODE 4710-AD-P